DEPARTMENT OF TRANSPORTATION

Federal Aviation Administration

Notice of Availability of a Record of Decision (ROD) and a Written Reevaluation for the Evaluation of New Information Regarding the National Aeronautics and Space Administration (NASA) Land Release at Cleveland Hopkins International Airport, Cleveland, OH

AGENCY: Federal Aviation Administration, DOT.

ACTION: Notice of availability of a ROD and a written reevaluation for the evaluation of new information regarding the NASA land release at Cleveland Hopkins International Airport, Cleveland, Ohio.

SUMMARY: The Federal Aviation Administration (FAA) is making available a ROD and a Written Evaluation for new information concerning the NASA land release at Cleveland Hopkins International Airport, Cleveland, Ohio.

POINT OF CONTACT: Mr. Ernest Gubry, Environmental Protection Specialist, FAA Great Lakes Region, Detroit Airports District Office, Willow Run Airport, 8820 Beck Road, Belleville, MI 4811 (734) 487-7280.

SUPPLEMENTARY INFORMATION: The FAA is making available a ROD and a Written Reevaluation of new information regarding the NASA land release at Cleveland Hopkins International Airport, Cleveland, Ohio. The purpose of the ROD and Written Reevaluation was to evaluate the temporary impacts arising from NASA's need to remain in the South 40 area after the opening of Stage One of Runway 6L/24R in December 2002. These documents will be available during normal business hours at the following locations: FAA Detroit Airports District Office, 8820 Beck Rd., Belleville, MI 48111; FAA Airports Division Office, 2300 East Devon Ave., Des Plaines, IL 60018; Cleveland Hopkins International Airport, 5300 Riverside Drive, Cleveland, OH 44135. Due to current security requirements, arrangements must be made with the point of contact prior to visiting these offices.

Issued in Detroit, Michigan, December 4, 2002.
Irene R. Porter,
Manager, Detroit Airport District Office FAA, Great Lakes Region.

[FR Doc. 02-31343 Filed 12-11-02; 8:45 am]

BILLING CODE 4910-13-M